ENVIRONMENTAL PROTECTION AGENCY

[FRL-7600-3]

Preliminary National Enforcement and Compliance Assurance Priorities for Fiscal Years 2005, 2006 and 2007; Correction

AGENCY: Environmental Protection Agency (EPA).

ACTION: Notice; correction.

SUMMARY: The U.S. Environmental Protection Agency published a notice in the Federal Register on December 10, 2003, concerning a request for comments on Preliminary National Enforcement and Compliance Assurance Priorities for Fiscal Years 2005, 2006 and 2007. The notice contained an incorrect phone number.

FOR FURTHER INFORMATION CONTACT: Robert Tolpa, (202) 564-2337.

Correction:

In the Federal Register of December 10, 2003, in FR Doc. OECA-2003-0154, on page 68896, in the last paragraph of the notice, correct the “Phone number” caption to read:

Review Information: Persons interested in obtaining further background information regarding current or proposed FY 2005-2007 national enforcement and compliance assurance priorities may submit a request for hard copy or electronic version of information to: docket.oeca@epa.gov, or contact the docket clerk at 202-566-1752. Please reference Docket Number OECA-2003-0154 in the request. A reasonable fee may be charged by EPA for copying docket materials. Dated: December 4, 2003.

Dated: December 11, 2003.
Lisa C. Lund,
Acting Director, Office of Compliance, Office of Enforcement and Compliance Assurance.

[FR Doc. 03-31350 Filed 12-18-03; 8:45 am]

BILLING CODE 6560-50-P